DEPARTMENT OF THE INTERIOR

Bureau of Land Management

[17X L1109AF LLUT980300-L10100000.PH0000-24-1A]

Utah Resource Advisory Council Meeting

AGENCY: Bureau of Land Management, Interior.

ACTION: Notice.

SUMMARY: In accordance with the Federal Land Policy and Management Act, the Bureau of Land Management's (BLM) Utah Resource Advisory Council (RAC) will host a meeting.

DATES: On Feb. 23 and 24, 2017, the Utah RAC will hold a meeting in St. George, Utah. On Feb. 23, the RAC will meet from 8:30 a.m. to 5 p.m. On Feb. 24, the RAC will meet from 8 a.m. to 10 a.m. An optional field tour of the Red Cliffs National Conservation Area will take place on Feb. 24 from 10 a.m. to 1 p.m.

ADDRESSES: The RAC will meet at the BLM Arizona Strip District Office, 345 E. Riverside Drive, St. George, Utah 84770. Written comments may be sent to the BLM Utah State Office, 440 West 200 South, Suite 500, Salt Lake City, Utah 84101.

FOR FURTHER INFORMATION CONTACT: If you wish to attend the field tour, contact Lola Bird, Public Affairs Specialist, Bureau of Land Management, Utah State Office, 440 West 200 South, Suite 500, Salt Lake City, Utah 84101; phone (801) 539-4033; or, lbird@blm.gov no later than Wednesday, Feb. 15, 2017.

SUPPLEMENTARY INFORMATION: Agenda topics will include an introduction of new BLM managers, an update on the Planning 2.0 Rule, implementation of Greater Sage-Grouse plans, and updates on current resource management planning efforts and major projects.

A public comment period will take place on Feb. 23 from 3 p.m. to 4 p.m., where the public may address the RAC. Written comments may also be sent to the BLM Utah State Office at the address listed in the ADDRESSES section of this notice.

The meeting is open to the public; however, transportation, lodging, and meals are the responsibility of the participating individuals.

Persons who use a telecommunications device for the deaf (TDD) may call the Federal Relay Service (FRS) at 1-800-877-8339 to leave a message or question for the above individual. The FRS is available 24 hours a day, seven days a week. Replies are provided during normal business hours.

Authority: 43 CFR 1784.4-1.

Richard T. Cardinale,
Acting Assistant Secretary, Land and Minerals Management.

[FR Doc. 2017-02301 Filed 2-2-17; 8:45 am]

BILLING CODE 4310-DQ-P